DEPARTMENT OF VETERANS AFFAIRS

[OMB Control No. 2900-0091]

Proposed Information Collection Activity: Proposed Collection; Comment Request

AGENCY: Veterans Health Administration, Department of Veterans Affairs.

ACTION: Notice.

SUMMARY: The Veterans Health Administration (VHA) is announcing an opportunity for public comment on the proposed collection of certain information by the agency. Under the Paperwork Reduction Act (PRA) of 1995, Federal agencies are required to publish notice in the Federal Register concerning each proposed collection of information, including each proposed extension, without change, of a currently approved collection, and allow 60 days for public comment in response to the notice. This notice solicits comments on the information needed to enroll veterans into the VA health care system and to update an existing enrollee's personal data.

DATES: Written comments and recommendations on the proposed collection of information should be received on or before March 26, 2007.

ADDRESSES: Submit written comments on the collection of information through www.Regulations.gov; or to Mary Stout, Veterans Health Administration (193E1), Department of Veterans Affairs, 810 Vermont Avenue, NW., Washington, DC 20420 or e-mail mary.stout@va.gov. Please refer to “OMB Control No. 2900-0091” in any correspondence. During the comment period, comments may be viewed online through the Federal Docket Management System (FDMS) at www.Regulations.gov.

FOR FURTHER INFORMATION CONTACT: Mary Stout at (202) 273-8664.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) way to minimize the burden of the collection of information on respondents, including through the use of automated collection techniques or the use of other forms of information technology.

Titles:

a. Application for Health Benefits, VA Form 10-10EZ.

b. Health Benefits Renewal Form, VA Form 10-10EZR.

OMB Control Number: 2900-0091.

Type of Review: Extension, without change, of a currently approved collection.

Abstract:

a. Veterans complete VA Form 10-10EZ to enroll in VA health care system. VA will use the information collected to determine the veteran's eligibility for medical benefits.

b. Veterans currently enrolled in VA health care system complete VA Form 10-10EZR to update their personal information such as martial status, address, health insurance and financial information.

Affected Public: Individuals or households.

Estimated Annual Burden: 1,008,180 hours.

a. VA Form 10-10EZ—527,580 hours.

b. VA Form 10-10EZR—480,600.

Estimated Average Burden Per Respondent:

a. VA Form 10-10EZ—45 minutes.

b. VA Form 10-10EZR—24 minutes.

Frequency of Response: Annually.

Estimated Number of Respondents: 1,904,940.

a. VA Form 10-10EZ—703,440.

b. VA Form 10-10EZR—1,201,500.

Dated: January 12, 2007.
By direction of the Secretary.
Denise McLamb,
Program Analyst, Records Management Service.

[FR Doc. E7-964 Filed 1-23-07; 8:45 am]

BILLING CODE 8320-01-P